FEDERAL TRADE COMMISSION

Sunshine Act Meeting

AGENCY: Federal Trade Commission.

TIME AND DATE: 10 a.m., Tuesday, September 21, 2004.

PLACE: Federal Trade Commission Building, Room 532, 600 Pennsylvania Avenue, NW., Washington, DC 20580.

STATUS: Part of this meeting will be open to the public. The rest of the meeting will be closed to the public.

MATTERS TO BE CONSIDERED: Portion open to public:

(1) Oral Argument in the matter of Rambus Incorporated, Docket 9302.

Portion Closed to the Public:

(2) Executive Session to follow Oral Argument in Rambus Incorporated, Docket 9302

FOR FURTHER INFORMATION CONTACT: Mitch Katz. Office of Public Affairs: (202) 326-2180. Recorded Message: (202) 326-2711.

Donald S. Clark,
Secretary, (202) 326-2514.

[FR Doc. 04-14418 Filed 6-22-04; 8:56 am]

BILLING CODE 6750-01-M